RAILROAD RETIREMENT BOARD

Proposed Collection; Comment Request

Summary: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Application for Survivor Death Benefits; OMB 3220-0031.

Under section 6 of the Railroad Retirement Act (RRA), lump-sum death benefits are payable to surviving widow(er)s, children, and certain other dependents. Lump-sum death benefits are payable after the death of a railroad employee only if there are no qualified survivors of the employee immediately eligible for annuities. With the exception of the residual death benefit, eligibility for survivor benefits depends on whether the deceased employee was “insured” under the RRA at the time of death. If the deceased employee was not insured, jurisdiction of any survivor benefits payable is transferred to the Social Security Administration and survivor benefits are paid by that agency instead of the RRB. The requirements for applying for benefits are prescribed in 20 CFR 217, 219, and 234.

The collection obtains the information required by the RRB to determine entitlement to and amount of the survivor death benefits applied for. To collect the information, the RRB uses Forms AA-11a, Designation for Change of Beneficiary for Residual Lump-Sum; AA-21, Application for Lump-Sum Death Payment and Annuities Unpaid at Death; AA-21cert, Application Summary and Certification; G-131, Authorization of Payment and Release of All Claims to a Death Benefit or Accrued Annuity Payment; and G-273a, Funeral Director's Statement of Burial Charges. One response is requested of each respondent. Completion is required to obtain benefits. The RRB proposes the following changes to the forms in the information collection:

• Form AA-21—Add clarifying language to better define who qualifies for a child's annuity and other minor editorial changes;

• Form G-273a—Add clarifying language to Item 2, regarding the total amount of charges the funeral home should enter; and what the funeral home should list as types of payments received or expected to be received to Item 3.

• Form G-131—For clarity, add an Instructions section and space for the RRB to enter the applicant's name and the waived share amount.

• Form AA-11a—Remove from the information collection due to less than 10 responses a year.

Estimate of Annual Respondent Burden
Form No. | Annual responses | Time (minutes) | Burden (hours)
AA-21cert (with assistance) | 3,500 | 20 | 1,167
AA-21 (without assistance) | 200 | 40 | 133
G-131 | 100 | 5 | 8
G-273a | 4,000 | 10 | 667
Total | 7,800 |  | 1,975

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2015-18314 Filed 7-24-15; 8:45 am]

BILLING CODE 7905-01-P